NUCLEAR REGULATORY COMMISSION

[Docket No. 70-143-CO; ASLBP No. 07-857-01-CO-BD01]

Nuclear Fuel Services, Inc.; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Nuclear Fuel Services, Inc., Special Nuclear Materials Facility (Confirmatory Order)

This Board is being established in response to requests for hearing that were filed pursuant to a Notice of Publication of Confirmatory Order and Opportunity for Hearing (72 Fed. Reg. 41,528 (July 30, 2007)), regarding a Confirmatory Order issued to Nuclear Fuel Services, Inc. (“NFS”) on February 21, 2007 that became immediately effective on the date of issuance. This proceeding arose from inspections and investigations at NSF by the NRC Staff that identified apparent violations for which escalated enforcement action was considered. The NRC Staff determined that its concerns regarding public health and safety could be resolved through confirmation of NFS's commitments as prescribed in the Confirmatory Order. Hearing requests have been submitted by: (1) Ken Silver, (2) R. Feher, (3) Linda Cataldo Modica on behalf of the Sierra Club, (4) Wanda Sue Kelley, (5) Barbara A. O'Neal, and (6) A. Christine Tipton.

The Board is comprised of the following administrative judges:

Lawrence G. McDade, Chair, Atomic Safety and Licensing Board Panel, U.S. Nuclear Regulatory Commission, Washington, DC 20555-0001.

Dr. Richard F. Cole, Atomic Safety and Licensing Board Panel, U.S. Nuclear Regulatory Commission, Washington, DC 20555-0001.

Dr. Peter S. Lam, Atomic Safety and Licensing Board Panel, U.S. Nuclear Regulatory Commission, Washington, DC 20555-0001.

All correspondence, documents, and other materials shall be filed with the administrative judges in accordance with 10 CFR 2.302.

Issued at Rockville, Maryland, this 29th day of August 2007.
E. Roy Hawkens,
Chief Administrative Judge, Atomic Safety and Licensing Board Panel.

[FR Doc. E7-17501 Filed 9-4-07; 8:45 am]

BILLING CODE 7590-01-P